Title 3—

The President

Memorandum of May 10, 2016

Delegation of Authority Pursuant to Section 3136(h) of the National Defense Authorization Act for Fiscal Year 2016

Memorandum for the Secretary of State

By the authority vested in me as President by the Constitution and the laws of the United States of America, including section 301 of title 3, United States Code, I hereby order as follows:

I hereby delegate functions and authorities vested in the President by section 3136(h) of the National Defense Authorization Act for Fiscal Year 2016 (Public Law 114-92) (the “Act”) to the Secretary of State.

Any reference in this memorandum to the Act shall be deemed to be a reference to any future act that is the same or substantially the same as such provision.

You are authorized and directed to publish this memorandum in the Federal Register.

THE WHITE HOUSE,

Washington, May 10, 2016

[FR Doc. 2016-11836

Filed 5-17-16; 8:45 am]

Billing code 4710-10-P